DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: https://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on December 1, 2021, through December 31, 2021. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Frances C. Nwokoro, Southlake, Texas, Court of Federal Claims No: 21-2240V

2. Briahna Bryant, Duluth, Minnesota, Court of Federal Claims No: 21-2241V

3. Michael Burch Vessels, Bowling Green, Kentucky, Court of Federal Claims No: 21-2243V

4. Samira Belarbi, Sugarland, Texas, Court of Federal Claims No: 21-2244V

5. Martha Buck, Windsor, Maine, Court of Federal Claims No: 21-2246V

6. Edward Garren, Inglewood, California, Court of Federal Claims No: 21-2247V

7. Erin O'Leary, Chicago, Illinois, Court of Federal Claims No: 21-2249V

8. Sherri Allen, Ocean, New Jersey, Court of Federal Claims No: 21-2251V

9. Lance Zeimetz, Holly Hill, Florida, Court of Federal Claims No: 21-2252V

10. Daniel Stewart Botti, Hillsboro, Oregon, Court of Federal Claims No: 21-2256V

11. Jose Ruiz, San Bernardino, California, Court of Federal Claims No: 21-2257V

12. Lauri E. Hill, Ridgefield, Connecticut, Court of Federal Claims No: 21-2259V

13. Shawn Blau, Fairfield, Connecticut, Court of Federal Claims No: 21-2263V

14. James Carter, Godfrey, Illinois, Court of Federal Claims No: 21-2264V

15. Christine Vardaro, Dorchester, Massachusetts, Court of Federal Claims No: 21-2265V

16. Holly O'Dea as Personal Representative of the Estate of Dolores Williams, Deceased, Alamo, California, Court of Federal Claims No: 21-2267V

17. Mitchel Friedt, Howell, Michigan, Court of Federal Claims No: 21-2268V

18. Suzanne Tanner on behalf of L.T., Phoenix, Arizona, Court of Federal Claims No: 21-2269V

19. Sotiria Hambos, Columbia, New Jersey, Court of Federal Claims No: 21-2273V

20. Elizabeth P. Gombeyski, Narragansett, Rhode Island, Court of Federal Claims No: 21-2274V

21. Richard G. Morrison, Huntley, Illinois, Court of Federal Claims No: 21-2277V

22. Alberto Abraham, Schaumburg, Illinois, Court of Federal Claims No: 21-2279V

23. Rhonda Barefield, Cleveland, Texas, Court of Federal Claims No: 21-2282V

24. Theresa A. Winning, Marshall, Missouri, Court of Federal Claims No: 21-2285V

25. Cindy Overton, Fort Worth, Texas, Court of Federal Claims No: 21-2286V

26. Desiree Jackson on behalf of S.J., Phoenix, Arizona, Court of Federal Claims No: 21-2287V

27. Mallory Johnson, Greeley, Colorado, Court of Federal Claims No: 21-2288V

28. Dennis W. Blake, Westwood, New Jersey, Court of Federal Claims No: 21-2290V

29. Jose Tomas Siniscalchi, Miami, Florida, Court of Federal Claims No: 21-2293V

30. Leah M. Fetzer, Howell, New Jersey, Court of Federal Claims No: 21-2294V

31. Francis Miller, Washington, District of Columbia, Court of Federal Claims No: 21-2295V

32. Thomas and Danielle Blinstrubas on behalf of C.B., Phoenix, Arizona, Court of Federal Claims No: 21-2296V

33. Cynthia Cevora, Norfolk, Virginia, Court of Federal Claims No: 21-2297V

34. Eric Guilliod, Maumee, Ohio, Court of Federal Claims No: 21-2299V

35. Raymond Keane and Mary Keane on behalf of G.K., Springfield, Massachusetts, Court of Federal Claims No: 21-2300V

36. Alyssa Wilfong, Phoenix, Arizona, Court of Federal Claims No: 21-2301V

37. Daniel Wolin, Cleveland, Ohio, Court of Federal Claims No: 21-2302V

38. Paula Shirk, Brooklyn, New York, Court of Federal Claims No: 21-2303V

39. Suzette Harrigal, Brookhaven, Mississippi, Court of Federal Claims No: 21-2304V

40. Clarence Cherry on behalf of The Estate of Mark A. Cherry, Deceased, Toledo, Ohio, Court of Federal Claims No: 21-2306V

41. Joseph McIssac, Phoenix, Arizona, Court of Federal Claims No: 21-2308V

42. William M. Roberson, Nashville, Tennessee, Court of Federal Claims No: 21-2309V

43. Joey Dylla, San Antonio, Texas, Court of Federal Claims No: 21-2310V

44. Anna Reeves on behalf of L.R., Phoenix, Arizona, Court of Federal Claims No: 21-2318V

45. Kristy Dougherty, Santa Rosa, California, Court of Federal Claims No: 21-2319V

46. Debra Peterson, Santa Clarita, California, Court of Federal Claims No: 21-2320V

47. Debra Metcalf, Council Bluffs, Iowa, Court of Federal Claims No: 21-2321V

48. Judy Jasper, Louisville, Kentucky, Court of Federal Claims No: 21-2322V

49. Adriana Solar on behalf of Belkis Correal, Deceased, North Palm Beach, Florida, Court of Federal Claims No: 21-2326V

50. Laurencia Ampedu on behalf of J.A., Phoenix, Arizona, Court of Federal Claims No: 21-2328V

51. Sarah Winjum on behalf of K.C., Phoenix, Arizona, Court of Federal Claims No: 21-2329V

52. Sherry Burd on behalf of E.B., Phoenix, Arizona, Court of Federal Claims No: 21-2331V

53. Cassy Martell, Skowhegan, Maine, Court of Federal Claims No: 21-2335V

54. Elizabeth Elwell, Tekamah, Nebraska, Court of Federal Claims No: 21-2336V

55. Randolph Isaac Schmitke, Greensboro, North Carolina, Court of Federal Claims No: 21-2337V

56. Carol Carchietta, Pennington, New Jersey, Court of Federal Claims No: 21-2338V

57. John Sullivan, Dover, New Hampshire, Court of Federal Claims No: 21-2341V

58. Simon Legault, Pooler, Georgia, Court of Federal Claims No: 21-2343V

59. David Moore, Henderson, North Carolina, Court of Federal Claims No: 21-2344V

60. Ouafae Suber, New York, New York, Court of Federal Claims No: 21-2345V

61. Sandra Kline as the Administrator of the Estate of Richard Kline, Deceased, Toledo, Ohio, Court of Federal Claims No: 21-2347V

62. Mark Stevens, Kingwood, Texas, Court of Federal Claims No: 21-2348V

63. Hugh Neal, Jr., Lancaster, California, Court of Federal Claims No: 21-2352V

64. Kathleen M. Wise, Memphis, Tennessee, Court of Federal Claims No: 21-2354V

65. Hope Ann Cole, Englewood, New Jersey, Court of Federal Claims No: 21-2356V

66. Andrew Jones, Beverly Hills, California, Court of Federal Claims No: 21-2357V

[FR Doc. 2022-03447 Filed 2-16-22; 8:45 am]

BILLING CODE 4165-15-P